DEPARTMENT OF DEFENSE

Department of the Army

Board of Visitors, United States Military Academy (USMA); Meeting Cancellation

AGENCY: Department of the Army, DoD.

ACTION: Meeting cancellation notice.

SUMMARY: Under the provisions of the Federal Advisory Committee Act of 1972, the Government in the Sunshine Act of 1976, the Department of Defense announces that the following Federal advisory committee meeting will not take place.

FOR FURTHER INFORMATION CONTACT: The Committee's Designated Federal Officer or Point of Contact is Ms. Deadra Ghostlaw, (845) 938-4200, Deadra.Ghostlaw@westpoint.edu.

SUPPLEMENTARY INFORMATION: Due to circumstances beyond the control of the Department of Defense (DoD) and the Designated Federal Officer, the U.S. Military Academy Board of Visitors was unable to provide sufficient public notification required by 41 CFR 102-3.150(a) concerning the cancellation of its previously noticed October 22, 2019 meeting. Accordingly, the Advisory Committee Management Officer for the Department of Defense, pursuant to 41 CFR 102-3.150(b), waives the 15-calendar day notification requirement.

1. Name of Committee: United States Military Academy Board of Visitors.

2. Date: Tuesday, October 22, 2019.

3. Time: 1:30 p.m.-4:30 p.m.

4. Location: Room LJ-119, Library of Congress, Thomas Jefferson Building, 10 First Street SE, Washington, DC.

5. Reason for Cancellation: Due to circumstances surrounding a missing Cadet at West Point and the need for senior USMA leadership to remain at USMA during the search, the USMA Board of Visitors meeting originally scheduled for Tuesday, October 22, 2019, is postponed until a date to be determined.

6. Committee's Designated Federal Officer or Point of Contact: Ms. Deadra Ghostlaw, (845) 938-4200, Deadra.Ghostlaw@westpoint.edu.

Brenda S. Bowen,
Army Federal Register Liaison Officer.

[FR Doc. 2019-24547 Filed 11-8-19; 8:45 am]

BILLING CODE 5001-03-P